DEPARTMENT OF COMMERCE

National Oceanic and Atmospheric Administration

50 CFR Part 679

[Docket No. 030808196-4036-03; I. D. 062403C]

RIN 0648-AR13

Fisheries of the Exclusive Economic Zone (EEZ) Off Alaska; Provisions of the American Fisheries Act (AFA)

AGENCY: National Marine Fisheries Service (NMFS), National Oceanic and Atmospheric Administration (NOAA), Commerce.

ACTION: Final rule; removal of expiration date.

SUMMARY: NMFS issues a final rule to remove the expiration date of regulations published in the Federal Register on December 30, 2002, implementing the AFA. The AFA final rule inadvertently specified a period of effectiveness that will expire December 31, 2007. This rule will make the amendments to the AFA rule permanent, as originally intended. This action is necessary to implement the AFA consistent with statutory requirements, and is intended to do so in a manner consistent with the objectives of the Magnuson-Stevens Conservation and Management Act (Magnuson-Stevens Act) and other applicable laws.

DATES: The December 31, 2007, expiration date is removed from the rule published December 30, 2002, at 67 FR 79692, except for § 679.50, which still expires on December 31, 2007.

ADDRESSES: The Final Environmental Impact Statement/Regulatory Impact Review/Final Regulatory Flexibility Analysis (FEIS/RIR/FRFA) prepared for Amendments 61/61/13/8 is available in the NEPA section of the NMFS Alaska Region home page at http:/www.fakr.noaa.gov. Paper copies may be obtained from the NMFS, Alaska Region, P.O. Box 21668, Juneau, AK 99802-1668, Attn: Lori Durall, 907-586-7247.

FOR FURTHER INFORMATION CONTACT: Patsy A. Bearden, NMFS, 907-586-7228 or patsy.bearden@noaa.gov.

SUPPLEMENTARY INFORMATION: The background regarding this action is detailed in the preamble to the proposed rule (68 FR 51147, August 25, 2003). This action is necessary to make the regulations implementing the AFA consistent with statutory requirements. The AFA implementing regulations were published on December 30, 2002 (67 FR 79692), became effective January 29, 2003, and were corrected on August 18, 2003 (68 FR 49374).

NMFS manages the groundfish fishery in the Gulf of Alaska (GOA) Exclusive Economic Zone in accordance with the Fishery Management Plan for Groundfish of the Gulf of Alaska and the Fishery Management Plan for the Groundfish Fishery of the Bering Sea and Aleutian Islands Area (FMPs). The FMPs were prepared by the North Pacific Fishery Management Council (Council) under the Magnuson-Stevens Act. While the FMPs are implemented by regulations at 50 CFR part 679, general regulations pertaining to these fisheries are codified in subpart H of 50 CFR part 600.

The fisheries in the BSAI are subject to observer requirements under regulations at § 679.50. These observer requirements have an independent sunset date of December 31, 2007. The AFA implementing regulations (67 FR 79692, December 30, 2002) made changes to the observer regulations. While the DATES section to that action contained a reference to the sunset date for these observer requirements, the sunset date was mistakenly applied to the entire final rule. This action corrects that error by stating that the phrase “effective through December 31, 2007” applies only to those paragraphs dealing with the observer program (i.e., § 679.50), and that the other provisions in the final rule are effective indefinitely.

Comments and Responses

NMFS received one written comment on the proposed rule.

Comment. Any regulations promulgated by NMFS are not to be trusted because the fishery management councils that recommend regulatory changes to NMFS are composed of representatives who seek to enlarge their profits instead of being concerned about the overall health of marine life. NMFS should act in the best interests of the American people as a whole, and not only the commercial fishing public.

Response. The commenter's concerns are noted. However, the comment does not specifically address the purpose of this rule, which is to make an administrative change to an effective date as required by statute. Rather, the comment indicates a general mistrust for the fishery management process. This rule is not intended to make any substantive changes to the conservation and management of fishery stocks.

Classification

This final rule has been determined to be not significant for purposes of Executive Order 12866.

The Chief Counsel for Regulation of the Department of Commerce certified to the Chief Counsel for Advocacy of the Small Business Administration during the proposed rule stage that this action would not have a significant economic impact on a substantial number of small entities. No comments were received regarding this certification. As a result, a regulatory flexibility analysis was not prepared.

List of Subjects in 50 CFR Part 679

Alaska, Fisheries, Recordkeeping and reporting requirements.

Dated: February 4, 2004.
Rebecca Lent,
Deputy Assistant Administrator for Regulatory Programs, National Marine Fisheries Service.

[FR Doc. 04-2870 Filed 2-9-04; 8:45 am]

BILLING CODE 3510-22-S